FEDERAL COMMUNICATIONS COMMISSION

47 CFR Part 73

[MB Docket No. 11-168; RM-11642; DA 12-790]

Radio Broadcasting Services; Llano, TX

AGENCY: Federal Communications Commission.

ACTION: Final rule.

SUMMARY: The Audio Division, at the request of Bryan King (“petitioner”), removes FM Channel 293C3 and allots FM Channel 242C3 at Llano, Texas, contingent upon the final outcome in MB Docket No. 05-112. Channel 242C3 can be allotted at Llano, consistent with the minimum distance separation requirements of the Commission's rules, at coordinates 30-55-34 NL and 98-43-24 WL, with a site restriction of 19.1 km (11.9 miles) north of the community. The Government of Mexico has concurred with the allotment of Channel 242C3 at Llano, which is located within 320 kilometers (199 miles) of the U.S.-Mexican border. See SUPPLEMENTARY INFORMATION infra.

DATES: Effective July 5, 2012.

FOR FURTHER INFORMATION CONTACT: Deborah Dupont, Media Bureau, (202) 418-2180.

SUPPLEMENTARY INFORMATION: This is a synopsis of the Commission's Report and Order, MB Docket No. 11-168, adopted May 17, 2012, and released May 18, 2012. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see U.S.C. 801(a)(1)(A).

List of Subjects in 47 CFR Part 73

Radio, Radio broadcasting.

Federal Communications Commission.
Peter H. Doyle,
Chief, Audio Division, Media Bureau.

Final Rule

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by removing Channel 293C3 at Llano and by adding Channel 242C3 at Llano.

[FR Doc. 2012-13222 Filed 6-1-12; 8:45 am]

BILLING CODE 6712-01-P